GENERAL SERVICES ADMINISTRATION

[ME-2008-NO1; Docket GSA 2008-0005; Sequence 1]

Financial Systems Integration Office (FSIO); Federal Acquisition System Requirements

AGENCY: Office of Governmentwide Policy, GSA.

ACTION: Notice with request for comments.

SUMMARY: The Office of Governmentwide Policy invites comments on the proposed “Federal Acquisition System Requirements.” This document gives functional, process technical and data standards requirements for software developers of Government acquisition and contract writing systems, and is regarded as a draft document that will be revised to consider input from comments solicited from industry and other government agencies during this open comment period. This document will be a baseline (as-is) document with the understanding that it will be revised as processes and data standards are harmonized within the acquisition domain and later as it harmonized with other domains—primarily the Financial Management Line of Business (FMLoB). This document does not supersede or obsolete documents, standards or requirements issued by the Joint Financial Management Improvement Program (JFMIP), Financial Systems Integration Office (FSIO) or the Financial Management Line of Business (FMLoB). Over time, efforts will be made to harmonize across these domains.

FOR FURTHER INFORMATION CONTACT: Mr. Earl Warrington, Director, Integrated Acquisition Environment, by telephone at (703) 872-8609 or via e-mail to earl.warrington@gsa.gov.

DATES: Interested parties should submit written comments to the FAR Secretariat on or before June 27, 2008.

ADDRESSES: Submit comments identified by ME-2008-N01, by any of the following methods:

• Regulations.gov: http://www.regulations.gov. Submit comments via the Federal eRulemaking portal by inputting “ME-2008-N01” under the heading “Comment or Submission”. Select the link “Send a Comment or Submission” that corresponds with ME-2008-N01. Follow the instructions provided to complete the “Public Comment and Submission Form”. Please include your name, company name (if any), and “ME-2008-N01” on your attached document.

• Fax: 202-501-4067.

• Mail: General Services Administration, Regulatory Secretariat (VPR), 1800 F Street, NW., Room 4035, ATTN: Diedra Wingate, Washington, DC 20405.

Instructions: Please submit comments only and cite ME-2008-N01, in all correspondence related to this case. All comments received will be posted without change to http://www.regulations.gov, including any personal and/or business confidential information provided.

SUPPLEMENTARY INFORMATION: The FSIO Federal Financial Management Systems Requirements is a series of publications entitled Federal Financial Management System Requirements (FFMSR). The FFMSR documents specify the functional and technical requirements that all financial management-related systems must meet in order to be considered compliant with Federal standards as mandated by the Federal Financial Management Improvement Act (FFMIA). In the future Federal Acquisition System Requirements will evolve to create harmonization between the Federal Financial and Acquisition Communities.

This notice requests comments on the Acquisition System Requirements document, located at http://www.acquisition.gov. This document specifies the functional and technical requirements that acquisition systems must satisfy for Federal agency use. The document was developed at the request of the Chief Acquisition Officers Council (CAOC) and Chief Financial Officers Council (CFOC), demonstrating a commitment to starting the process of integrating the acquisition and finance functions more effectively. These requirements were drafted by the Acquisition Requirements Team (ART), consisting of representatives from both communities. The ART members recognize that agencies face major challenges in streamlining and automating procurement processes. Having access to better acquisition software is a first step toward this end. A key prerequisite to developing better software is to clearly define the requirements that the software product must meet.

The Office of Management and Budget (OMB) Circular A-130, Management of Federal Information Resources, requires agencies to use commercially available off-the-shelf (COTS) software to reduce costs, improve the efficiency and effectiveness of system improvement projects, and reduce the risks inherent in developing and implementing a new system. To support this OMB mandate, vendors will be required to offer acquisition system products utilizing COTS software to the greatest extent practicable.

This document is part of a long-term plan to have integration. The first document, Joint Financial Management Improvement Program (JFMIP)-Federal Financial Management System Requirements (FFMSP), [Document No. JFMIP-SR-01-03, dated December 7, 2001], gave the list of touch points between the financial and acquisition domains and still stands. The current document goes more in depth to articulate the way the processes and data are defined. It is understood that significant definitions and harmonization needs to occur in the future.

The requirements in this document are intended to address the needs of Federal Acquisition Regulation (FAR)-based contracts. They are not intended to replace or modify the FAR, FAR supplements, or internal agency acquisition policy. Further, agencies have considerable leeway in how they use any system-delivered capability. In practice, the applicability of an individual requirement depends on business circumstances. Agencies may apply sound business judgment to the use of a compliant acquisition system, provided it:

• Is consistent with the FAR, FAR supplements, or other regulations that apply to agencies and organizations not covered by the FAR;

• Does not violate laws, executive orders, or other regulations; and

• Is in the best interests of the government.

The document provides a framework for connecting program planning, ccr financial, and a zet management processes with agencies' acquisition systems in order to deliver fully integrated acquisition support. Detailed acquisition system requirements are presented within the functional and technical requirements sections. They incorporate the latest changes in laws and regulations governing acquisition systems as well as required system interfaces such as the Federal Procurement Data System and Central Contractor Registration. When finalized, these requirements are expected to become the standard for qualifying COTS acquisition systems for Federal agency acquisition.

The requirements listed in this document address common Governmentwide functionality. This document was not designed to deal with classified information. The following are examples of common system capabilities needed by all Federal agencies:

• Deliver a template for an SF 1449; Solicitation/Contract/Order for Commercial Items;

• Verify funds availability;

• Capture receiving report data; and

• Generate a checklist of contract closeout items.

The requirements in this document do not constitute a complete system specification. Requirements are deliberately stated in functional terms to give software developers maximum flexibility in engineering technical solutions. Individual agencies will also have, in many cases, additional mandatory requirements necessary to support their specific business processes.

Dated: April 11, 2008.
Keith Thurston,
Acting Deputy Associate Administrator, Office of Technology Strategy.

[FR Doc. E8-9183 Filed 4-25-08; 8:45 am]

BILLING CODE 6820-WY-P